DEPARTMENT OF LABOR

Employment and Training Administration

[TA-W-55,424]

Degussa Corporation, Silanes Plant, Theodore, AL; Notice of Termination of Investigation

Pursuant to section 221 of the Trade Act of 1974, as amended, an investigation was initiated on August 11, 2004 in response to a worker petition filed on behalf of workers at Degussa Corporation, Silanes Plant, Theodore, Alabama.

The petitioners have requested that the petition be withdrawn. Consequently, the investigation has been terminated.

Signed at Washington, DC this 30th day of September 2004.
Elliott S. Kushner,
Certifying Officer, Division of Trade Adjustment Assistance.

[FR Doc. E4-2695 Filed 10-15-04; 8:45 am]

BILLING CODE 4510-30-P